NATIONAL SCIENCE FOUNDATION

Special Emphasis Panel in Bioengineering and Environmental Systems: Notice of Meeting

In accordance with the Federal Advisory Committee Act (Pub. L. 92-463, as amended), the National Science Foundation announces the following meeting.

Name: Special Emphasis Panel in Bioengineering and Environmental Systems (1189).

Date and Time: November 28, 2000; 8 a.m.-5 p.m.

Place: National Science Foundation, 4201 Wilson Boulevard, Room 830, Arlington, VA.

Type of Meeting: Closed.

Contact Person: A. Frederick Thompson and Nicholas L. Clesceri, Program Directors, Division of Bioengineering and Environmental Systems, National Science Foundation; 4201 Wilson Boulevard; Arlington, Virginia 22230. Telephone: (703) 292-8320.

Purpose of Meeting: To provide advice and recommendations concerning proposals submitted to NSF for financial support.

Agenda: To review and evaluate Environmental Engineering 2001 CAREER proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: October 27, 2000
Karen J. York,
Committee Management Officer.

[FR Doc. 00-28410 Filed 11-3-00; 8:45 am]

BILLING CODE 7555-01-M